DEPARTMENT OF ENERGY

Federal Energy Regulatory Commission

Combined Notice of Filings #1

Take notice that the Commission received the following electric corporate filings:

Docket Numbers: EC12-137-000.

Applicants: Constellation Power Source Generation LLC, Brandon Shores LLC, C.P. Crane LLC, H.A. Wagner LLC.

Description: Joint Application of Constellation Power Source Generation LLC, Brandon Shores LLC, H.A. Wagner LLC and C.P. Crane LLC under Section 203.

Filed Date: 8/23/12.

Accession Number: 20120823-5141.

Comments Due: 5 p.m. ET 9/13/12.

Docket Numbers: EC12-138-000.

Applicants: Minonk Wind, LLC, Algonquin Power Fund (America) Inc.

Description: Application for Authorization for Disposition of Jurisdictional Facilities of Minonk Wind, LLC and Algonquin Power Fund (America) Inc.

Filed Date: 8/24/12.

Accession Number: 20120824-5111.

Comments Due: 5 p.m. ET 9/14/12.

Take notice that the Commission received the following exempt wholesale generator filings:

Docket Numbers: EG12-102-000.

Applicants: Brandon Shores LLC.

Description: Notice of Self-Certification of Exempt Wholesale Generator of Brandon Shores LLC.

Filed Date: 8/23/12.

Accession Number: 20120823-5146.

Comments Due: 5 p.m. ET 9/13/12.

Docket Numbers: EG12-103-000.

Applicants: H.A. Wagner LLC.

Description: Notice of Self-Certification of Exempt Wholesale Generator of H.A. Wagner LLC.

Filed Date: 8/23/12.

Accession Number: 20120823-5147.

Comments Due: 5 p.m. ET 9/13/12.

Docket Numbers: EG12-104-000.

Applicants: C.P. Crane LLC.

Description: Notice of Self-Certification of Exempt Wholesale Generator of C.P. Crane LLC.

Filed Date: 8/23/12.

Accession Number: 20120823-5148.

Comments Due: 5 p.m. ET 9/13/12.

Take notice that the Commission received the following electric rate filings:

Docket Numbers: ER10-2985-005; ER10-3049-006; ER10-3051-006.

Applicants: Champion Energy Marketing LLC, Champion Energy Services, LLC, Champion Energy, LLC.

Description: Notice of Non-Material Change in Status of Champion Energy Marketing LLC, et al.

Filed Date: 8/23/12.

Accession Number: 20120823-5143.

Comments Due: 5 p.m. ET 9/13/12.

Docket Numbers: ER12-645-005.

Applicants: California Ridge Wind Energy LLC.

Description: Change in Status Notice of California Ridge Wind Energy LLC.

Filed Date: 8/24/12.

Accession Number: 20120824-5052.

Comments Due: 5 p.m. ET 9/14/12.

Docket Numbers: ER12-1204-002.

Applicants: PJM Interconnection, L.L.C.

Description: Errata to Compliance Filing in ER12-1204 re Order 755 to be effective 10/1/2012.

Filed Date: 8/23/12.

Accession Number: 20120823-5119.

Comments Due: 5 p.m. ET 9/13/12.

Docket Numbers: ER12-2055-001.

Applicants: San Gorgonio Farms, Inc.

Description: Supplement to its Market-Based Rate Application.

Filed Date: 8/23/12.

Accession Number: 20120823-5018.

Comments Due: 5 p.m. ET 9/4/12.

Docket Numbers: ER12-2505-000.

Applicants: Southwest Power Pool, Inc.

Description: 2460 Tulsa LFG, LLC GIA to be effective 7/20/2012.

Filed Date: 8/20/12.

Accession Number: 20120820-5187.

Comments Due: 5 p.m. ET 9/10/12.

Docket Numbers: ER12-2506-000.

Applicants: Southern California Edison Company.

Description: SGIA with TA-Acacia, LLC, TA-Acacia Project to be effective 8/24/2012.

Filed Date: 8/23/12.

Accession Number: 20120823-5034.

Comments Due: 5 p.m. ET 9/13/12.

Docket Numbers: ER12-2507-000.

Applicants: Southwest Power Pool, Inc.

Description: 2208R1 Ensign Wind, LLC GIA to be effective 7/24/2012.

Filed Date: 8/23/12.

Accession Number: 20120823-5062.

Comments Due: 5 p.m. ET 9/13/12.

Docket Numbers: ER12-2508-000.

Applicants: PacifiCorp.

Description: OATT Revised Section 14 to be effective 10/23/2012.

Filed Date: 8/23/12.

Accession Number: 20120823-5063.

Comments Due: 5 p.m. ET 9/13/12.

Docket Numbers: ER12-2509-000.

Applicants: California Independent System Operator Corporation.

Description: California Independent System Operator Corporation submits tariff filing per 35: 2012-08-23 CAISO Filing in Compliance with July 24, 2012 Order (ER12-1855-000) to be effective 7/25/2012.

Filed Date: 8/23/12.

Accession Number: 20120823-5101.

Comments Due: 5 p.m. ET 9/13/12.

Docket Numbers: ER12-2510-000.

Applicants: Brandon Shores LLC.

Description: Brandon Shores Section 205 to be effective 10/8/2012.

Filed Date: 8/23/12.

Accession Number: 20120823-5118.

Comments Due: 5 p.m. ET 9/13/12.

Docket Numbers: ER12-2511-000.

Applicants: C.P. Crane LLC.

Description: CP Crane Section 205 to be effective 10/8/2012.

Filed Date: 8/23/12.

Accession Number: 20120823-5120.

Comments Due: 5 p.m. ET 9/13/12.

Docket Numbers: ER12-2512-000.

Applicants: H.A. Wagner LLC.

Description: HA Wagner Section 205 to be effective 10/8/2012.

Filed Date: 8/23/12.

Accession Number: 20120823-5121.

Comments Due: 5 p.m. ET 9/13/12.

Docket Numbers: ER12-2513-000.

Applicants: Raven Power Marketing LLC.

Description: Raven Power Section 205 to be effective 10/8/2012.

Filed Date: 8/23/12.

Accession Number: 20120823-5122.

Comments Due: 5 p.m. ET 9/13/12.

Docket Numbers: ER12-2514-000.

Applicants: Susterra Energy, LLC.

Description: Susterra Energy MBR Application and Initial MBR Tariff to be effective 10/23/2012.

Filed Date: 8/24/12.

Accession Number: 20120824-5023.

Comments Due: 5 p.m. ET 9/14/12.

Docket Numbers: ER12-2515-000.

Applicants: Southern California Edison Company.

Description: Interconnection Facilities Agreement with The City of Riverside to be effective 8/25/2012.

Filed Date: 8/24/12.

Accession Number: 20120824-5037.

Comments Due: 5 p.m. ET 9/14/12.

Docket Numbers: ER12-2516-000.

Applicants: Cleco Power LLC.

Description: RS 37—ESIA with City of Natchitoches, Louisiana to be effective 8/24/2012.

Filed Date: 8/24/12.

Accession Number: 20120824-5038.

Comments Due: 5 p.m. ET 9/14/12.

Docket Numbers: ER12-2517-000.

Applicants: Southern California Edison Company.

Description: Amended SGIA & DSA to Site 12 4091(S) E. Francis St Bldg 5, Ontario, CA Project to be effective 10/24/2012.

Filed Date: 8/24/12.

Accession Number: 20120824-5043.

Comments Due: 5 p.m. ET 9/14/12.

Docket Numbers: ER12-2518-000.

Applicants: PJM Interconnection, L.L.C.

Description: Queue No. W2-022; Original Service Agreement No. 3386 to be effective 7/25/2012.

Filed Date: 8/24/12.

Accession Number: 20120824-5046.

Comments Due: 5 p.m. ET 9/14/12.

Docket Numbers: ER12-2519-000.

Applicants: Cleco Power LLC.

Description: Cleco Power LLC submits a Notice of Cancellation of Rate Schedule 14—ESIA with City of Natchitoches, Louisiana.

Filed Date: 8/24/12.

Accession Number: 20120824-5053.

Comments Due: 5 p.m. ET 9/14/12.

Docket Numbers: ER12-2520-000.

Applicants: California Independent System Operator Corporation

Description: 2012-08-24 CAISO Filing of Amended Service Agreement 2157 and Request for Waiver to be effective 10/1/2012.

Filed Date: 8/24/12.

Accession Number: 20120824-5102.

Comments Due: 5 p.m. ET 9/14/12.

Docket Numbers: ER12-2521-000.

Applicants: Louisville Gas and Electric Company.

Description: 08_24_12 OATT ITO Amend to be effective 9/1/2012.

Filed Date: 8/27/12.

Accession Number: 20120827-5003.

Comments Due: 5 p.m. ET 9/17/12.

Docket Numbers: ER12-2522-000.

Applicants: D & L Harris and Associates.

Description: Initial to be effective 8/28/2012.

Filed Date: 8/27/12.

Accession Number: 20120827-5026.

Comments Due: 5 p.m. ET 9/17/12.

Take notice that the Commission received the following electric reliability filings:

Docket Numbers: RR12-13-000.

Applicants: North American Electric Reliability Corporation.

Description: Request of the North American Electric Reliability Corporation for Acceptance of its 2013 Business Plan and Budget and the 2013 Business Plans and Budgets of Regional Entities and for Approval of Proposed Assessments to Fund Budgets.

Filed Date: 08/24/2012.

Accession Number: 20120824-5029.

Comment Date: 5 p.m. ET 9/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2012.
Nathaniel J. Davis, Sr.,
Deputy Secretary.

[FR Doc. 2012-21641 Filed 8-31-12; 8:45 am]

BILLING CODE 6717-01-P